DEPARTMENT OF DEFENSE

[Docket ID: USA-2016-HQ-0014]

Proposed Collection; Comment Request

AGENCY: U.S. Army Corps of Engineers, DoD.

ACTION: Notice.

SUMMARY: In compliance with the Paperwork Reduction Act of 1995, the Office of the Assistant Secretary of Defense for Civil Works announces a proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by June 20, 2016.

ADDRESSES: You may submit comments, identified by docket number and title, by any of the following methods:

• Federal eRulemaking Portal: http://www.regulations.gov. Follow the instructions for submitting comments.

• Mail: ODCMO, Directorate for Oversight and Compliance, 4800 Mark Center Drive, Attn: Mailbox 24, Alexandria, VA 22350-1700.

Instructions: All submissions received must include the agency name, docket number and title for this Federal Register document. The general policy for comments and other submissions from members of the public is to make these submissions available for public viewing on the Internet at http://www.regulations.gov as they are received without change, including any personal identifiers or contact information.

Any associated form(s) for this collection may be located within this same electronic docket and downloaded for review/testing. Follow the instructions at http://www.regulations.gov for submitting comments. Please submit comments on any given form identified by docket number, form number, and title.

FOR FURTHER INFORMATION CONTACT: To request more information on this proposed information collection or to obtain a copy of the proposal and associated collection instruments, please write to the US Army Corps of Engineers, Institute for Water Resources, Casey Building, 8801 Telegraph Road, Alexandria VA 22315 ATTN Meredith Bridgers or call 703-428-8458.

SUPPLEMENTARY INFORMATION:

Title; Associated Form; and OMB Number: Recreation Compendium of Questions Generic Clearance; OMB Control Number 0710-XXXX.

Needs and Uses: The information collection requirement is necessary for planning and feasibility studies; understanding of recreation visitor demands, experiences and facility use; input to recreation area management and operations; recreation visitation estimation; and economic estimates at US Army Corps of Engineers Water Resource Projects.

Affected Public: Individuals or households, business or other for-profit, not-for-profit institutions, and State, Local or Tribal Government.

Annual Burden Hours: 8,333 hours

Number of Respondents: 25,000

Responses per Respondent: 2

Annual Responses: 50,000

Average Burden per Response: 10 minutes (0.17 hours)

Frequency: On occasion.

Surveys developed from this generic clearance may be delivered by any of the following information collection formats, as well as others not mentioned herein: comment cards, paper surveys (on site, mail, email), web-based surveys, interviews (on site, telephone), or focus groups. Potential respondents may include current or future recreational visitors; regional residents; and stakeholders, state/local government agencies, and dependent industries or businesses that operate in or around USACE Water Resource Projects. Potential respondents may be contacted by mail, phone, or in person and invited to participate in the information collection. Respondents may access collection instruments via technology, paper, or by speaking to a USACE employee or representative. Respondents may return the collection instrument electronically, by paper mail, or orally. Appropriate disclosures (Privacy Act Statement) may be provided to the respondent visually (in writing on paper) or orally (in spoken word by a USACE employee or representative).

Dated: April 15, 2016.
Aaron Siegel,
Alternate OSD Federal Register Liaison Officer, Department of Defense.

[FR Doc. 2016-09109 Filed 4-19-16; 8:45 am]

BILLING CODE 5001-06-P